DEPARTMENT OF HOUSING AND URBAN DEVELOPMENT

[Docket No. FR-7050-N-68]

30-Day Notice of Proposed Information Collection: Housing Opportunity Through Modernization Act of 2016 (HOTMA): Public Housing Waiting List Data Collection Tool OMB Control No: 2577-NEW

AGENCY: Office of Policy Development and Research, Chief Data Officer, HUD.

ACTION: Notice.

SUMMARY: HUD is seeking approval from the Office of Management and Budget (OMB) for the information collection described below. In accordance with the Paperwork Reduction Act, HUD is requesting comment from all interested parties on the proposed collection of information. The purpose of this notice is to allow for an additional 30 days of public comment.

DATES: Comments Due Date: February 2, 2023.

ADDRESSES: Interested persons are invited to submit comments regarding this proposal. Written comments and recommendations for the proposed information collection should be sent within 30 days of publication of this notice to OIRA_submission@omb.eop.gov or www.reginfo.gov/public/do/PRAMain. Find this particular information collection by selecting “Currently under 30-day Review—Open for Public Comments” or by using the search function.

FOR FURTHER INFORMATION CONTACT: Colette Pollard, Reports Management Officer, QDAM, Department of Housing and Urban Development, 451 7th Street SW, Washington, DC 20410; email Colette Pollard at Colette.Pollard@hud.gov or telephone 202-402-3400. This is not a toll-free number. HUD welcomes and is prepared to receive calls from individuals who are deaf or hard of hearing, as well as individuals with speech or communication disabilities. To learn more about how to make an accessible telephone call, please visit https://www.fcc.gov/consumers/guides/telecommunications-relay-service-trs.

Copies of available documents submitted to OMB may be obtained from Ms. Pollard.

SUPPLEMENTARY INFORMATION: This notice informs the public that HUD is seeking approval from OMB for the information collection described in Section A.

The Federal Register notice that solicited public comment on the information collection for a period of 60 days was published on August 31, 2022 at 87 FR 53484.

A. Overview of Information Collection

Title of Information Collection: Housing Opportunity Through Modernization Act of 2016 (HOTMA): Public Housing Waiting List Data Collection Tool.

OMB Approval Number: 2577-XXXX.

Type of Request: New Collection.

Form Number: Form HUD-XXXXX.

Description of the Need for the Information and Proposed Use:

This collection of information implements a statutory requirement made by Section 103 of the Housing Opportunity Through Modernization Act of 2016 (HOTMA). HOTMA was signed into law on July 29, 2016 (Public Law 114-201, 130 Stat. 782). Section 103 of HOTMA amends section 16(a) of the United States Housing Act of 1937 (42 U.S.C. 1437n(a)) (1937 Act).

Section 103 of HOTMA states that after a public housing family has been over-income for two consecutive years, a public housing agency (PHA) must either: (1) charge the over-income family a monthly rent that is the higher of fair market rent under section 8(c) for the dwelling unit or the monthly amount of public housing subsidy provided for the dwelling unit; or (2) terminate the tenancy of the over-income family no later than 6 months after the end of the two-year period. Additionally, pursuant to section 103 of HOTMA, PHAs must submit an annual report on two specific data points: 1. The number of over-income families residing in public housing and 2. the number of families on the public housing waiting lists.

The number of over-income families currently residing in public housing is already being collected via the form HUD-50058. Therefore, PHAs will be allowed to use income data already provided by form HUD-50058, under OMB approval number 2577-0083, which is submitted electronically in the PIH Information Center (PIC) system to satisfy the first data requirement to report the annual number of over-income families residing in public housing. The requirement for PHAs to report on the number of over-income families will be satisfied with currently-existing 50058 reporting requirements and HUD will compile this with the data provided on the number of families on the public housing waiting list for the public report.

The requirement for PHAs to report on the number of families on the public housing waiting list is new and so has resulted in the need to for this collection of information request. Each PHA will now be required to submit the total number of families on the public housing waiting lists annually utilizing the newly created electronic Public Housing Waiting List Data Collection Tool. The data on the total number of unduplicated families on the public housing waiting list will be provided by the PHA in the aggregate and no personally identifiable information will be collected. Section 103 of HOTMA permits HUD to determine the format of these annual reports and HUD has elected to utilize PIC data when possible as this will result in no additional burden to the PHA. Per the requirements of Section 103 of HOTMA, HUD will compile the data provided in PIC and the new data that will be collected via the electronic Public Housing Waiting List Data Collection Tool to publish this information annually in a publicly available report.

Respondents: State, Local or Tribal Government.

Estimated Number of Respondents: 2,774 (This number excludes HCV-only PHA's).

Estimated Number of Responses: 2,774 (This number excludes HCV-only PHA's).

Frequency of Response: Annually.

Average Hours per Response: 0.5 of an hour (30 min).

Total Estimated Burdens: 1,387 hours.

Information collection | Number of respondents | Frequency of response | Responses per annum | Burden hour per response | Annual burden hours | Hourly cost per response | Annual cost
Public Housing Waiting List Data Collection Tool | ** 2,774 | 1 | 1 | 0.5 of an hr. (30 min) | 1,387 | * $21.82 | $30,264
Total | 2,774 | 1 | 1 | 0.5 hr | 1,387 | 21.82 | 30,264
* Based on the U.S. national average of the hourly pay for an Executive Assistant (payscale.com, 3/7/2022).
** Based on data from the Public Housing (PH) Dashboard updated as of 8/1/22.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond, including through the use of appropriate automated collection techniques or other forms of information technology, e.g., permitting electronic submission of responses.

(5) Ways to minimize the burden of the collection of information on those who are to respond, including the use of automated collection techniques or other forms of information technology.

HUD encourages interested parties to submit comment in response to these questions.

C. Authority

Section 3507 of the Paperwork Reduction Act of 1995, 44 U.S.C. Chapter 35.

Colette Pollard,
Department Reports Management Officer, Office of Policy Development and Research, Chief Data Officer.

[FR Doc. 2022-28489 Filed 12-30-22; 8:45 am]

BILLING CODE 4210-67-P